ENVIRONMENTAL PROTECTION AGENCY

40 CFR Part 300

[FRL-7468-5]

National Oil and Hazardous Substances Contingency Plan; National Priorities List Update

AGENCY: Environmental Protection Agency.

ACTION: Notice of deletion of a portion of the former Nansemond Ordnance Depot Site from the National Priorities List.

SUMMARY: The Environmental Protection Agency (EPA) Region III announces the deletion of a portion of the former Nansemond Ordnance Depot site (Nansemond) from the National Priorities List (NPL). The NPL constitutes appendix B of 40 CFR part 300, which is the National Oil and Hazardous Substances Contingency Plan (NCP), which EPA promulgated pursuant to section 105 of the Comprehensive Environmental Response, Compensation and Liability Act of 1980 (CERCLA), as amended. EPA and the Commonwealth of Virginia have determined that all appropriate responses under CERCLA have been implemented at the portions of the site being deleted from the NPL and that no further response action is appropriate.

EFFECTIVE DATE: March 20, 2003.

ADDRESSES: Comprehensive information on this release is available for viewing at the site information repositories at the following locations:

Tidewater Community College (Frederick Campus) Library, Information Desk, 7000 College Drive, Portsmouth, Virginia 23703. (757) 822-2130. Hours of operation: Monday through Thursday 8 a.m. to 9 p.m., Friday 8 a.m. to 4:30 p.m. and Saturday 9 a.m. to 1 p.m.

U.S. EPA Region III Library, 1650 Arch Street, Philadelphia, PA 19103-2029. (215) 814-5254. Hours of operation: Monday through Friday, 8 a.m.-5 p.m.

FOR FURTHER INFORMATION CONTACT: Mr. Robert Thomson, PE, Remedial Project Manager, U.S. EPA Region III (3HS13), 1650 Arch Street, Philadelphia, PA 19103-2029. (215) 814-3357.

SUPPLEMENTARY INFORMATION:

The portion of the site to be deleted from the NPL is the soil in the Impregnation Kit Area. The Impregnation Kit Area (also known as the “Impregnite Kit” or “XXCC3” area) is an approximately 300,000 square foot, rectangular area in the southwestern portion of Nansemond, about 1000 feet from the Nansemond River. Only soil in this area is being deleted from the NPL; ground water beneath the Impregnation Kit Area will not be deleted at this time.

A notice of intent to delete this portion of the site was published January 21, 2003 (68 FR 2726). The closing date for comments on the notice of intent to delete was February 20, 2003. EPA received no comments.

EPA identifies releases which appear to present a significant risk to public health, welfare, or the environment, and it maintains the NPL as the list of those releases. Releases on the NPL may be the subject of remedial actions financed by the Hazardous Substance Superfund. Any release deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Chemicals, Hazardous substances, Hazardous waste, Intergovernmental relations, Reporting and recordkeeping requirements, Superfund.

Dated: March 7, 2003.
Donald S. Welsh,
Regional Administrator, Region III.

40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

2. Table 1 of Appendix B to part 300 is amended by revising the entry for VA, Former Nansemond Ordnance Depot, Suffolk to read as follows:

Appendix B to Part 300—National Priorities List

Table 1.—General Superfund Section
St. | Site name | City/county | Notes(a)
* * * * * * *
VA | Former Nansemond Ordnance Depot | Suffolk | P

(a) * * *

P = Sites with partial deletion(s).

[FR Doc. 03-6459 Filed 3-19-03; 8:45 am]

BILLING CODE 6560-50-P